EXPORT-IMPORT BANK

[Public Notice 2015-6010]

Agency Information Collection Activities: Comment Request

AGENCY: Export-Import Bank of the United States.

ACTION: Submission for OMB review and comments request.

Form Title: EIB 92-64 Application for Exporter Short Term Single Buyer Insurance.

SUMMARY: The Export-Import Bank of the United States (Ex-Im Bank), as a part of its continuing effort to reduce paperwork and respondent burden, invites the general public and other Federal Agencies to comment on the proposed information collection, as required by the Paperwork Reduction Act of 1995.

The “Application for Exporter Short Term Single Buyer Insurance” form will be used by entities involved in the export of U.S. goods and services, to provide Ex-Im Bank with the information necessary to obtain legislatively required assurance of repayment and fulfills other statutory requirements. Export-Import Bank customers will be able to submit this form on paper or electronically.

The Export-Import Bank has made a change to the report to have the applicant provide the number of employees or annual sales volume. That information is needed to determine whether or not they meet the SBA's definition of a small business. The applicant already provides their name, address and industry code (NAICS). These additional pieces of information will allow Ex-Im Bank to better track the extent to which its support assists U.S. small businesses.

The other change that Ex-Im Bank has made is to require the applicant to indicate whether it is a minority-owned business, women-owned business and/or veteran-owned business. Although answers to the questions are mandatory, the company may choose any one of the three answers: Yes/No/Decline to Answer. The option of “Decline to Answer” allows a company to consciously decline to answer the specific question should they not wish to provide that information.

The application can be reviewed at: www.exim.gov/pub/pending/EIB92-64.pdf.

DATES: Comments must be received on or before August 17, 2015 to be assured of consideration.

ADDRESSES: Comments may be submitted electronically on WWW.REGULATIONS.GOV or by mail to Michele Kuester, Export-Import Bank of the United States, 811 Vermont Ave. NW., Washington, DC 20571.

SUPPLEMENTARY INFORMATION:

Title and Form Number: EIB 92-64 Application for Exporter Short Term Single Buyer Insurance.

OMB Number: 3048-0018.

Type of Review: Regular.

Need and Use: The information requested enables the applicant to provide Ex-Im Bank with the information necessary to obtain legislatively required assurance of repayment and fulfills other statutory requirements.

Affected Public:

This form affects entities involved in the export of U.S. goods and services.

Annual Number of Respondents: 310.

Estimated Time per Respondent: 1.5 hours.

Annual Burden Hours: 465 hours.

Frequency of Reporting of Use: As needed.

Government Costs:

Reviewing time per year: 465 hours.

Average Wages per Hour: $42.50.

Average Cost per Year: $19,762.5 (time*wages).

Benefits and Overhead: 20%.

Total Government Cost: $23,715.

Bonita Jones-McNeil,
Agency Clearance Officer, Office of the Chief Information Officer.

[FR Doc. 2015-14932 Filed 6-17-15; 8:45 am]

BILLING CODE 6690-01-P